DEPARTMENT OF THE INTERIOR

National Park Service

[NPS-WASO-NAGPRA-22329; PPWOCRADN0-PCU00RP14.R50000]

Notice of Inventory Completion: Hood Museum of Art, Dartmouth College, Hanover, NH

AGENCY: National Park Service, Interior.

ACTION: Notice.

SUMMARY: The Hood Museum of Art, Dartmouth College has completed an inventory of human remains in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to the Hood Museum of Art, Dartmouth College. If no additional requestors come forward, transfer of control of the human remains to the Indian tribes or Native Hawaiian organizations stated in this notice may proceed.

DATES: Representatives of any Indian tribe or Native Hawaiian organization not identified in this notice that wish to request transfer of control of these human remains should submit a written request with information in support of the request to the Hood Museum of Art, Dartmouth College at the address in this notice by December 28, 2016.

ADDRESSES: Kathleen P. O'Malley, Hood Museum of Art, Dartmouth College, 6 East Wheelock Street, Hanover, NH 03755, telephone (603) 646-3853, email kathleen.p.omalley@dartmouth.edu.

SUPPLEMENTARY INFORMATION: Notice is here given in accordance with the Native American Graves Protection and Repatriation Act (NAGPRA), 25 U.S.C. 3003, of the completion of an inventory of human remains under the control of the Hood Museum of Art, Dartmouth College, Hanover, NH. The human remains were removed from Hood's Landing, Marion County, TN.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Hood Museum of Art professional staff in consultation with representatives of the Cherokee Nation, Eastern Band of Cherokee Indians, The Chickasaw Nation, The Muscogee (Creek) Nation, and the United Keetoowah Band of Cherokee Indians in Oklahoma.

History and Description of the Remains

In August of 1932, human remains representing, at minimum, one individual were removed from an “Indian mound” at Hood's Landing in Marion County, TN, one-quarter mile west of the Oxbow by Robert M. Bear of the Education Department at Dartmouth College. The human remains were donated to the Dartmouth College Museum and subsequently transferred to the Department of Anthropology, Dartmouth College in 1939. In 1993, in compliance with NAGPRA, officials of the Hood Museum of Art took control of the human remains and included them in an Inventory of Native American Human Remains in the Possession of the Hood Museum of Art at Dartmouth College that are considered to be Culturally Unidentifiable. No known individuals were identified. No associated funerary objects are present.

Determinations Made by the Hood Museum of Art, Dartmouth College, Hanover, NH

Officials of the Hood Museum of Art, Dartmouth College have determined that:

• Pursuant to 25 U.S.C. 3001(9), the human remains described in this notice are Native American based on osteological evidence as determined by professors in the Physical Anthropology Department at Dartmouth College and collection history.

• Pursuant to 25 U.S.C. 3001(9), the human remains described in this notice represent the physical remains of one individual of Native American ancestry.

• Pursuant to 25 U.S.C. 3001(2), a relationship of shared group identity cannot be reasonably traced between the Native American human remains and any present-day Indian tribe.

• According to final judgments of the Indian Claims Commission or the Court of Federal Claims, the land from which the Native American human remains were removed is the aboriginal land of the Cherokee Nation, Eastern Band of Cherokee Indians, The Chickasaw Nation, and the United Keetoowah Band of Cherokee Indians in Oklahoma.

• Treaties, Acts of Congress, or Executive Orders, indicate that the land from which the Native American human remains were removed is the aboriginal land of the Cherokee Nation, Eastern Band of Cherokee Indians, The Chickasaw Nation, and the United Keetoowah Band of Cherokee Indians in Oklahoma.

• Pursuant to 43 CFR 10.11(c)(1), the disposition of the human remains may be to the Cherokee Nation, Eastern Band of Cherokee Indians, The Chickasaw Nation, and the United Keetoowah Band of Cherokee Indians in Oklahoma.

Additional Requestors and Disposition

Representatives of any Indian tribe or Native Hawaiian organization not identified in this notice that wish to request transfer of control of these human remains should submit a written request with information in support of the request to Kathleen P. O'Malley, Hood Museum of Art, Dartmouth College, 6 East Wheelock Street, Hanover, NH 03755, telephone (603) 646-3853, email kathleen.p.omalley@dartmouth.edu, by December 28, 2016. After that date, if no additional requestors have come forward, transfer of control of the human remains to the Cherokee Nation, Eastern Band of Cherokee Indians, The Chickasaw Nation, and the United Keetoowah Band of Cherokee Indians in Oklahoma may proceed.

The Hood Museum of Art is responsible for notifying the Cherokee Nation, Eastern Band of Cherokee Indians, The Chickasaw Nation, The Muscogee (Creek) Nation, and the United Keetoowah Band of Cherokee Indians in Oklahoma that this notice has been published.

Dated: November 2, 2016.
Melanie O'Brien,
Manager, National NAGPRA Program.

[FR Doc. 2016-28511 Filed 11-25-16; 8:45 am]

BILLING CODE 4312-52-P